FEDERAL MARITIME COMMISSION

[Petition No. P1-09]

Petition of Hanjin Shipping Co., Ltd. for an Exemption From 46 CFR 530.10; Notice of Filing and Request for Comments

Served: November 6, 2009.

This is to provide notice of filing and to invite comments on or before November 16, 2009, with regard to the Petition described below.

Hanjin Shipping Co., Ltd. (Petitioner), has petitioned the Commission pursuant to 46 CFR 502.69 of the Commission's Rules of Practice and Procedure, for an exemption from the Commission's rules requiring individual service contract amendments, 46 CFR 530.10. Specifically, Petitioner requests that the Commission permit the submission of a “universal notice” to the Commission of its upcoming corporate reorganization in lieu of requiring individual service contract amendment filings with respect to more than 2,700 service contracts. Petitioner separately commits to provide each service contract shipper counter-party with electronic notice of this corporate change and instructions on how to request preparation of a “formal consent” should one be required.

Effective December 1, 2009, Petitioner's shipping business will be transferred to a new affiliate company using the same name “Hanjin Shipping Co., Ltd.”, operating with the same vessels, equipment and personnel. Petitioner states that, under Korean law, the current corporation and the new corporation remain jointly and severally liable for Hanjin's contracts, and that the current corporation guarantees the performance of the new corporation, including its service contracts. Petitioner concludes that the change in contract party is primarily administrative in nature, and will cause no prejudice to any shipper counter-party.

In order for the Commission to make a thorough evaluation of the Petition, interested persons are requested to submit views or arguments in reply to the Petition no later than November 16, 2009. Replies shall consist of an original and 15 copies, be directed to the Secretary, Federal Maritime Commission, 800 North Capitol Street, NW., Washington, DC 20573-0001, and be served on Petitioner's counsel, Robert B. Yoshitomi, Nixon Peabody LLP, Gas Company Tower, 555 West Fifth Street, 46th Floor, Los Angeles, CA 90013. A copy of the reply shall be submitted in electronic form (Microsoft Word) by e-mail to Secretary@fmc.gov.

The Petition will be posted on the Commission's Web site at http://www.fmc.gov/reading/Petitions.asp. Replies filed in response to this petition also will be posted on the Commission's Web site at this location.

Parties participating in this proceeding may elect to receive service of the Commission's issuances in this proceeding through e-mail in lieu of service by U.S. mail. A party opting for electronic service shall advise the Office of the Secretary in writing and provide an e-mail address where service can be made.

Karen V. Gregory,
Secretary.

[FR Doc. E9-27192 Filed 11-10-09; 8:45 am]

BILLING CODE 6730-01-P